DEPARTMENT OF AGRICULTURE

Submission for OMB Review; Comment Request

April 9, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: Evaluation of User Satisfaction with NAL Internet Sites.

OMB Control Number: 0518-NEW.

Summary of Collection: There is a need to measure user satisfaction with the National Agricultural Library (NAL) Internet sites in order for NAL to comply with Executive Order 12862, which directs federal agencies that provide significant services directly to the public to survey customers to determine the kind and quality of services they want and their level of satisfaction with existing services. In accordance with Executive Branch and Congressional mandates to provide information dissemination, and under its mission, NAL has rapidly expanded availability of vital agricultural information. The project aims to evaluate user satisfaction with the content and usefulness of Web-based delivery methods. NAL Internet sites are a vast collection of Web pages created and maintained by component organizations of NAL, and are visited by 3.4 million people per month on average. All seven of NAL Information Centers and dozen special interest collections have established a Web presence with a home page and links to sub-pages that provide information to their respective audiences.

Need and Use of the Information: The purpose of the proposed research is to ensure that intended audiences find the information provided on the Internet sites easy to access, clear, informative, and useful. The research will also provide a means by which to classify visitors to the NAL Internet sites, to better understand how to serve them. If the information is not collected, NAL will be hindered from advancing its mandate to provide accurate, timely information to its user community.

Description of Respondents: Individuals or households; Business or other for-profit; Not-for-profit institutions; Farms; Federal Government; State, local or tribal government.

Number of Respondents: 12,000.

Frequency of Responses: Reporting: Monthly.

Total Burden Hours: 1,003.

Animal and Plant Health Inspection Service

Title: Citrus Canker: Commercial Citrus Tree Replacement Program.

OMB Control Number: 0579-0163.

Summary of Collection: Under the Plant Protection Act (7 U.S.C. 7701-7772), the Secretary of Agriculture, either independently or in cooperation with the States, is authorized to carry out operations or measures to detect, eradicate, suppress, control, prevent, or retard the spread of plant pests (such as citrus canker) new to or widely distributed throughout the United States. The Plant Protection & Quarantine Division of USDA's Animal and Plant Health Inspection Service (APHIS) has regulations in place to prevent the interstate spread of citrus canker. APHIS will collect information using form PPQ 652, Application for Citrus Canker Tree Replacement Payment.

Need and Use of the Information: APHIS will collect the owner's name, address, and a description of the owner's property, and certification statements that the trees removed from the owner's property were commercial citrus trees. The information will be used to verify the location and number of citrus trees for which the owner is requesting replacement funds. If the information were not collected APHIS would be unable to reimburse eligible grove owners for the loss of their trees.

Description of Respondents: Business or other for-profit.

Number of Respondents: 20.

Frequency of Responses: Reporting: On occasion.

Total Burden Hours: 7.

Animal and Plant Health Inspection Service

Title: Importation of Unshu Oranges.

OMB Control Number: 0579-0173.

Summary of Collection: The Plant Protection Act (7 U.S.C. 7701-7772) authorizes the Secretary of Agriculture to regulate the importation of plants, plant products, and other articles into the United States to prevent the introduction of plant pest and noxious weeds. The regulations in “Subpart-Citrus Fruit” (7 CFR 319.26) allow the importation of unshu oranges from Kyushu Island and Honshu Island, Japan, into the United States under certain conditions. A certificate must accompany the unshu oranges from the Japanese plant protection service certifying that the fruit is apparently free of citrus canker.

Need and Use of the Information: The Animal and Plant Health Inspection (APHIS) will collect information using form PPQ 203, Foreign Site Certificate of Inspection and/or Treatment. The information from the form will be used to certify that unshu oranges from Japan are free of citrus canker and to also ensure that the oranges are not imported into citrus-producing areas of the United States such as Florida and California.

Description of Respondents: State, local or tribal government.

Number of Respondents: 10.

Frequency of Responses: Reporting: On occasion.

Total Burden Hours: 10.

Animal and Plant Health Inspection Service

Title: Ongoing Monitoring.

OMB Control Number: 0579-NEW.

Summary of Collection: The United States Department of Agriculture is responsible for protecting the health of our Nation's livestock and poultry populations by preventing the introduction and interstate spread of contagious, infectious, or communicable diseases of livestock and poultry and for eradicating such diseases when feasible. In connection with this mission, the Centers for Epidemiology and Animal Health (CEAH), Veterinary Services, Animal and Plant Health Inspection Service (APHIS), plans to initiate as part of the National Animal Health Monitoring System (NAHMS) an information collection to gather data for the ongoing monitoring systems. Collection, analysis, and dissemination of animal and poultry health information are consistent with the APHIS mission of protecting and improving American agriculture's productivity and competitiveness.

Need and Use of the Information: APHIS will collect information using several forms and questionnaires. The data collected will be used to identify baseline trends, determine the economic consequences of animal disease, management, environmental practices, and meet international trade reporting requirements for animal health. If the information were not collected the ability to respond to international trade issues involving the health status of animal commodities could be severely reduced, jeopardizing the marketability of meat and byproducts.

Description Of Respondents: Farms; Individuals or households; Federal Government.

Number of Respondents: 160.

Frequency of Responses: Recordkeeping; Reporting: On occasion.

Total Burden Hours: 2,029.

Risk Management Agency

Title: Request for Applications for Research Partnerships.

OMB Control Number: 0563-NEW.

Summary of Collection: The Federal Crop Insurance Act of 2002 authorizes the Federal Crop Insurance Corporation to enter into partnerships with public and private entities for the purpose of increasing the availability of risk management tools for producers of agricultural commodities. The Risk Management Agency (RMA) had developed procedures for the preparation, submission and evaluation of applications.

Need and Use of the Information: RMA will use the information to determine applicant eligibility and to evaluate the applications. The qualifying applicants are ranked and the scores are used for the final decision on awards. If the information were not collected, the consequences would be missed opportunity to improve and/or develop new risk management tools for agricultural producers. The impact would affect those segments of agriculture lacking access to existing risk management tools.

Description of Respondents: Business or other for-profit; Farms; Federal Government.

Number of Respondents: 100.

Frequency of Responses: Reporting: Occasion.

Total Burden Hours: 3,467.

Risk Management Agency

Title: Risk Management and Crop insurance Education; Request for Applications.

OMB Control Number: 0563-NEW.

Summary of Collection: The Federal Crop Insurance Act, Title 7 U.S.C. Chapter 36 Section 1508(k) authorizes the Federal Crop Insurance Corporation (FCIC) to provide reinsurance to insurers approved by FCIC that insure producers of any agricultural commodity under one or more plans acceptable to FCIC. FCIC operating through the Risk Management Agency (RMA) has two application programs to carryout certain risk management education provisions of the Federal Crop Insurance Act. The two educational programs requiring application are: to establish crop insurance education and information programs in States that have been historically underserved by the Federal Crop Insurance Program; and to provide agricultural producers with training opportunities in risk management with a priority given to producers of specialty crops and underserved commodities. Funds are available to fund parties willing to assist RMA in carrying out local and regional risk management and crop insurance education programs.

Need and Use of the Information: Applicants are required to submit completed application packages in hard copy to RMA. RMA and a review panel will evaluate and rank applications as well as use the information to properly document and protect the integrity of the process used to select applications for funding. For applicants that are selected, the information will be used to create the terms of cooperative agreements between the applicant and the agency and will not be shared outside of RMA.

Description of Respondents: Not-for-profit institutions; Business or other for-profit; State, Local, or Tribal Government.

Number of Respondents: 110.

Frequency of Responses: Reporting: On occasion.

Total Burden Hours: 1732.

Risk Management Agency

Title: Notice of Funds availability—Community Outreach and Assistance Partnership Program.

OMB Control Number: 0563-NEW.

Summary of Collection: The Federal Crop Insurance Act of 2002 authorizes the Federal Crop Insurance Corporation (FCIC) to enter into partnerships with public and private entities for the purpose of increasing the availability of risk management tools for producers of agricultural commodities. The Risk Management Agency (RMA) has developed procedures for the preparation, submission and evaluation of applications for partnership agreements that will be used to provide outreach and assistance to under served producers, farmers, ranchers and women, limited resource, socially disadvantaged.

Need and Use of the Information: Applicants are required to submit materials and information necessary to evaluate and rate the merit of proposed projects and evaluate the capacity and qualification of the organization to complete the project. The application package should include: a project summary and narrative, a statement of work, a budget narrative and OMB grant forms. RMA and a review panel will evaluate and rank applicants as well as use the information to properly document and protect the integrity of the process used to select applications for funding.

Description of Respondents: Not-for-profit institutions; Business or other for-profit; State, local, or tribal government.

Number of Respondents: 100.

Frequency of Responses: Reporting: On occasion.

Total Burden Hours: 967.

Ruth Brown,
Departmental Information Collection Clearance Officer.

[FR Doc. 04-8461 Filed 4-13-04; 8:45 am]

BILLING CODE 3410-01-M